FEDERAL COMMUNICATIONS COMMISSION

47 CFR Part 73

[DA 00-1960; MM Docket No. 98-34; RM-9233 and RM-9607]

Radio Broadcasting Services; Buckhannon and Burnsville, West Virginia

AGENCY: Federal Communications Commission.

ACTION: Final rule.

SUMMARY: In response to a Notice of Proposed Rule Making, 63 FR 13818 (March 23, 1998), this document allots Channel 238A to Burnsville, West Virginia, as its first local aural transmission service. The coordinates for Channel 238A are 38-52-00 and 80-38-30. This document also grants the request of J&K Broadcasting, Inc. to withdraw its request to add Channel 238A at Buckhannon, West Virginia.

DATES: Effective October 10, 2000. A filing window for Channel 238A at Burnsville will not be opened at this time. Instead, the issue of opening a filing window for this channel will be addressed by the Commission in a subsequent order.

ADDRESSES: Federal Communications Commission, Washington, DC 20554.

FOR FURTHER INFORMATION CONTACT: R. Barthen Gorman, Mass Media Bureau, (202) 418-2180.

SUPPLEMENTARY INFORMATION: This is a synopsis of the Commission's Report and Order, MM Docket No. 98-34, adopted August 16, 2000, and released August 25, 2000. The full text of this Commission decision is available for inspection and copying during normal business hours in the FCC's Reference Information Center at Portals II, CY-A257, 445 12th Street, SW., Washington, DC. The complete text of this decision may also be purchased from the Commission's copy contractors, International Transcription Service, Inc., (202) 857-3800, located at 1231 20th Street, NW., Washington, DC 20036.

List of Subjects in 47 CFR Part 73

Radio broadcasting.

Part 73 of Title 47 of the Code of Federal Regulations is amended as follows:

PART 73—[AMENDED]

1. The authority citation for part 73 continues to read as follows:

Authority: 47 U.S.C. 154, 303, 334 and 336.

§ 73.202 [Amended]

2. Section 73.202(b), the Table of FM Allotments under West Virginia, is amended by adding Burnsville, Channel 238A.

Federal Communications Commission.
John A. Karousos,
Chief, Allocations Branch, Policy and Rules Division, Mass Media Bureau.

[FR Doc. 00-22919 Filed 9-6-00; 8:45 am]

BILLING CODE 6712-01-P